U.S.-CHINA ECONOMIC AND SECURITY REVIEW COMMISSION

Notice of Open Public Meetings

AGENCY: U.S.-China Economic and Security Review Commission.

ACTION: Notice; correction.

SUMMARY: The U.S.-China Economic and Security Review Commission published a document in the Federal Register on June 26, 2019 concerning meetings to review and edit drafts of the 2019 Annual Report to Congress. The document contained incorrect dates.

FOR FURTHER INFORMATION CONTACT: Kerry Sutherland, 202-624-1454, or via email at ksutherland@uscc.gov.

Correction

In the Federal Register of June 26, 2019, in FR Doc. 2019-13633, on page 30311 in the first column, correct the Dates caption to read:

DATES: The meetings are scheduled for Thursday, July 11, 2019, from 9:00 a.m. to 5:00 p.m..; Thursday, August 1, 2019, from 9:00 a.m. to 5:00 p.m.; Thursday, September 5, 2019, from 9:00 a.m. to 5:00 p.m.; Tuesday, September 24, 2019 from 9:00 a.m. to 12:00 p.m.; and Tuesday, October 1, 2019, from 9:00 a.m. to 5:00 p.m.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: September 10, 2019.
Daniel W. Peck,
Executive Director, U.S.-China Economic and Security Review Commission.

[FR Doc. 2019-19860 Filed 9-12-19; 8:45 am]

BILLING CODE 1137-00-P